DEPARTMENT OF HEALTH AND HUMAN SERVICES

Amendment of the Charter for the President's Council on Physical Fitness and Sports and Establishment of the President's Council on Fitness, Sports, and Nutrition

AGENCY: Department of Health and Human Services, Office of the Secretary, Office of the Assistant Secretary for Health.

ACTION: Notice.

AUTHORITY: Executive Order 13265, dated June 6, 2002, as amended by Executive Order 13545, dated June 22, 2010. The President's Council on Fitness, Sports, and Nutrition (formerly the President's Council on Physical Fitness and Sports) is governed by provisions of the Federal Advisory Committee Act, Public Law 92-463, as amended (5 U.S.C. App.), which sets forth standards for the formation and use of advisory committees.

SUMMARY: The U.S. Department of Health and Human Services announces amendment of the charter for the President's Council on Physical Fitness and Sports to establish the President's Council on Fitness, Sports, and Nutrition, as directed by Executive Order 13545.

FOR FURTHER INFORMATION CONTACT: Ms. Shellie Pfohl, Executive Director, President's Council on Fitness, Sports, and Nutrition, Tower Building, 1101 Wootton Parkway, Suite 560, Rockville, MD 20852, (240) 276-9857. Information about PCFSN, also can be obtained at http://www.fitness.gov and/or by calling (240) 276-9866.

SUPPLEMENTARY INFORMATION: Executive Order 13545 was issued by the President on June 22, 2010, to amend Executive Order 13265, dated June 6, 2002. The President issued Executive Order 13545 to recognize that good nutrition goes hand in hand with fitness and sports participation. Executive Order 13545 directs that the title, scope, function, and structure of the President's Council on Physical Fitness and Sports shall be revised. The new title shall be the President's Council on Fitness, Sports, and Nutrition.

To comply with stipulations in the authorizing directive and guidelines under the Federal Advisory Committee Act, an amended charter has been filed for the President's Council on Physical Fitness and Sports. The amended charter has been filed with the Committee Management Secretariat in the General Services Administration (GSA), the appropriate committees in the Senate and U.S. House of Representatives, and the Library of Congress to establish the President's Council on Fitness, Sports, and Nutrition (Council) as a non-discretionary Federal advisory committee. The amended charter was filed on September 10, 2010.

Objective and Scope of Activities. Under Executive Order 13545, the Secretary of Health and Human Services (Secretary) is directed to develop and coordinate a national program to enhance physical activity, fitness, sports participation, and good nutrition. The Secretary is directed to carry out this national program in consultation with the Secretaries of Agriculture and Education. In implementing the provisions of Executive Order 13545, the Secretary shall be guided by the science-based Federal Dietary Guidelines for Americans and the Physical Activity Guidelines for Americans. The Secretary shall undertake nutrition-related activities under Executive Order 13545 in coordination with the Secretary of Agriculture.

Under Executive Order 13545, the President's Council on Fitness, Sports, and Nutrition shall function (a) To advise the President, through the Secretary, concerning progress made in carrying out the provisions of Executive Order 13545 and shall recommend to the President, through the Secretary, actions to accelerate progress; (b) to advise the Secretary on ways to promote regular physical activity, fitness, sports participation, and good nutrition; (c) as a liaison to relevant State, local, and private entities in order to advise the Secretary about programs and services at the local, State, and national levels; and (d) to monitor the need to enhance programs and educational and promotional materials sponsored, overseen, or disseminated by the Council. In performing its functions, the Council shall take into account the Federal Dietary Guidelines for Americans and the Physical Activity Guidelines for Americans.

Membership and Designation. The President's Council on Fitness, Sports, and Nutrition shall be composed of up to 25 members appointed by the President. The President may designate one or more members as Chair or Vice Chair. Members of the Council shall serve for a term of two years, shall be eligible for reappointment, and may continue to serve after the expiration of their terms until the appointment of a successor. The members of the Council shall be classified as special Government employees (SGEs).

Administrative Management and Support. The Secretary shall appoint an Executive Director of the Council who shall serve as a liaison to the Secretary and the White House on matters and activities pertaining to the Council. HHS will provide funding and administrative support for the Council to the extent permitted by law within existing appropriations. Staff will be assigned to support the activities of the Council. Each executive department and agency shall, to the extent permitted by law and subject to the availability of funds, furnish such information and assistance to the Secretary and the Council as they may request. Management and oversight for support services provided to the Council will be the responsibility of the Office of the Assistant Secretary for Health, which is a staff division within the Office of the Secretary, HHS.

A copy of the charter for the Council can be obtained from the designated contacts or by accessing the FACA database that is maintained by the GSA Committee Management Secretariat. The Web site for the FACA database is http://fido.gov/facadatabase.

Dated: September 30, 2010.
Shannon Feaster,
Director, Communications and Public Affairs, President's Council on Fitness, Sports, and Nutrition.

[FR Doc. 2010-25112 Filed 10-5-10; 8:45 am]

BILLING CODE 4150-35-P